DEPARTMENT OF COMMERCE

International Trade Administration

[A-570-831]

Notice of Amended Final Results of Antidumping Duty New Shipper Review: Fresh Garlic From the People's Republic of China

AGENCY: Import Administration, International Trade Administration, Department of Commerce.

EFFECTIVE DATE: September 7, 2004.

FOR FURTHER INFORMATION CONTACT: Susan Lehman or Minoo Hatten, AD/CVD Enforcement, Office 5, Import Administration, International Trade Administration, U.S. Department of Commerce, 14th Street and Constitution Avenue, NW., Washington, DC 20230; telephone: (202) 482-0180 and (202) 482-1690, respectively.

Amendment of Final Results

In accordance with section 751(a)(2)(B) of the Tariff Act of 1930, as amended (the Act), on July 26, 2004, the Department of Commerce (the Department) issued its notice of final results of antidumping duty new shipper reviews of fresh garlic from the People's Republic of China (PRC).¹ On August 2, 2004, we received a timely ministerial-error allegation from Sunny Import & Export, Ltd. (Sunny), pursuant to 19 CFR 351.224(c)(2). On August 3, 2004, we received comments from the petitioners (the Fresh Garlic Producers Association and its individual members) concerning the final margin calculations for the Jinxiang Dong Yun Freezing Storage Co., Ltd. (Dong Yun). No other party alleged ministerial errors or submitted comments.

¹ See Fresh Garlic from the People's Republic of China: Final Results of Antidumping Duty New Shipper Reviews, 69 FR 47498 (August 3, 2004) (Final Results).

After analyzing the submissions, we have determined, in accordance with section 751(h) of the Act and 19 CFR 351.224(e), that we made a ministerial error in our calculation of the number of days Sunny's garlic was held in cold storage. Correcting this error resulted in a revised antidumping margin for Sunny. For a detailed discussion of this ministerial error, see the August 31, 2004, memorandum from Susan Lehman to the file entitled “Ministerial Error Allegation in the Final Results of the Antidumping Duty New Shipper Review of Sunny Import & Export, Ltd.”

We have determined that the issues the petitioners raised in their comments concerning Dong Yun are not ministerial errors as described under section 751(h) of the Act and 19 CFR 351.224(e), and, therefore, have not made any changes to the Final Results with respect to Dong Yun. See the August 31, 2004, memorandum from Lyn Johnson to the file entitled “Comments on the Final Results of the Antidumping Duty New Shipper Review of Jinxiang Dong Yun Freezing Storage Co., Ltd.”

Pursuant to section 751(h) of the Act and 19 CFR 351.224(e), we are amending the Final Results for Sunny. The revised antidumping margin is as follows:

Producer & Exporter | Original final margin (percent) | Amended final margin (percent)
Sunny Import and Export, Ltd. | 33.66 | 13.81

Duty Assessment and Cash Deposit Requirements

The Department will determine, and U.S. Customs and Border Protection (CBP) shall assess, antidumping duties on all appropriate entries. With respect to Sunny, the Department will issue appropriate assessment instructions directly to CBP within 15 days of publication of the amended final results of review. Further, the following cash-deposit requirements will be effective upon publication of these amended final results of review for shipments of the subject merchandise entered, or withdrawn from warehouse, for consumption on or after the publication date of these amended final results, as provided by section 751(a)(2)(C) of the Act: (1) For subject merchandise grown and exported by Sunny Import and Export, Ltd., the cash-deposit rate will be the rate listed above; (2) for all other subject merchandise exported by Sunny Import and Export, Ltd., the cash-deposit rate will be the PRC-wide rate, which is 376.76 percent; (3) for all other PRC exporters of subject merchandise (including merchandise produced and/or supplied by Sunny Import and Export, Ltd.) which have not been found to be entitled to a separate rate, the cash-deposit rate will be the PRC-wide rate of 376.76 percent; (4) for all non-PRC exporters of subject merchandise, the cash-deposit rate will be the rate applicable to the PRC exporter that supplied that exporter. These deposit requirements, when imposed, shall remain in effect until publication of the final results of the next administrative review.

With respect to Dong Yun, the duty assessment and cash deposit requirements remain the same (see the Final Results at 69 FR 46500).

The amended final results are issued and published pursuant to sections 751(a)(2)(B) and 777(i)(1) of the Act.

Dated: August 31, 2004.
James J. Jochum,
Assistant Secretary for Import Administration.

[FR Doc. 04-20250 Filed 9-3-04; 8:45 am]

BILLING CODE 3510-DS-M